NATIONAL SCIENCE FOUNDATION

Notice of Permits Issued Under the Antarctic Conservation Act of 1978

AGENCY: National Science Foundation.

ACTION: Notice of permit issued.

SUMMARY: The National Science Foundation (NSF) is required to publish notice of permits issued under the Antarctic Conservation Act of 1978. This is the required notice.

FOR FURTHER INFORMATION CONTACT: Andrew Titmus ACA Permit Officer, Office of Polar Programs, National Science Foundation, 2415 Eisenhower Avenue, Alexandria, VA 22314; 703-292-4479; email: ACApermits@nsf.gov.

SUPPLEMENTARY INFORMATION: On June 30, 2022 the National Science Foundation published a notice in the Federal Register of a permit application received. The permit was issued on August 12, 2022 to:

1. Todd McKinney, Permit No. 2023-005

On August 3, 2022 the National Science Foundation published a notice in the Federal Register of a permit application received. The permit was issued on September 21, 2022 to:

1. Lee Welhouse—Permit No. 2023-006

2. Natasja Van Gestel—Permit No. 2023-007

On August 18, 2022 the National Science Foundation published a notice in the Federal Register of a permit application received. The permit was issued on September 23, 2022 to:

1. Jay Rotella—Permit No. 2023-008

On September 21, 2022 the National Science Foundation published a notice in the Federal Register of a permit application received. The permit was issued on October 20, 2022 to:

1. Becky Ball—Permit No. 2023-010

On September 26, 2022 the National Science Foundation published a notice in the Federal Register of a permit application received. The permit was issued on October 28, 2022 to:

1. Harry Anderson—Permit No. 2023-009

2. Bill Davis—Permit No. 2023-011

3. Kristin O'Brien—Permit No. 2023-014

4. Haley Shephard—Permit No. 2023-015

On October 17, 2022 the National Science Foundation published a notice in the Federal Register of a permit application received. The permit was issued on November 17, 2022 to:

1. Steve Wellmeier—Permit No. 2023-016

On October 13, 2022 the National Science Foundation published a notice in the Federal Register of a permit application received. The permit was issued on November 26, 2022 to:

1. Mike Jackson—Permit No. 2023-017

On October 27, 2022 the National Science Foundation published a notice in the Federal Register of a permit application received. The permit was issued on December 3, 2022 to:

1. Bill Muntean—Permit No. 2023-017

On November 15, 2022 the National Science Foundation published a notice in the Federal Register of a permit application received. The permit was issued on December 29, 2022 to:

1. George Papagapitos—Permit No. 2023-019

On November 17, 2022 the National Science Foundation published a notice in the Federal Register of a permit application received. The permit was issued on December 29, 2022 to:

1. Lyndsey Lewis—Permit No. 2023-020

2. John Dennis—Permit No. 2023-021

3. Deirdre Dirkman—Permit No. 2023-022

4. David Sagrista—Permit No. 2023-023

On November 28, 2022 the National Science Foundation published a notice in the Federal Register of a permit application received. The permit was issued on December 29, 2022 to:

1. Nikola Bajo—Permit No. 2023-024

On December 19, 2022 the National Science Foundation published a notice in the Federal Register of a permit application received. The permit was issued on January 17, 2023 to:

1. Daniel Villa—Permit No. 2023-025

On December 21, 2022 the National Science Foundation published a notice in the Federal Register of a permit application received. The permit was issued on January 27, 2023 to:

1. Michael Raabe—Permit No. 2023-026

2. Michael Raabe—Permit No. 2023-027

3. Michael Raabe—Permit No. 2023-028

4. Michael Raabe—Permit No. 2023-029

5. Michael Raabe—Permit No. 2023-030

6. Michael Raabe—Permit No. 2023-031

7. Michael Raabe—Permit No. 2023-032

8. Michael Raabe—Permit No. 2023-033

9. Michael Raabe—Permit No. 2023-034

Kimiko S. Bowens-Knox,
Program Analyst, Office of Polar Programs.

[FR Doc. 2023-16082 Filed 7-28-23; 8:45 am]

BILLING CODE 7555-01-P